DEPARTMENT OF HEALTH AND HUMAN SERVICES

National Institutes of Health

Office of the Director; Amended Notice of Meeting

Notice is hereby given of a change in the meeting of the Advisory Committee to the Director, National Institutes of Health, December 14, 9:00 a.m. to 5:30 p.m. and December 15, 2017, 9:00 a.m. to 1:00 p.m., that was published in the Federal Register on Tuesday, November 14, 2017, 82 FR 52737.

The meeting will be closed to the public on December 14, 2017, from 4:45 p.m. to 5:15 p.m. for the discussion and identification of specific candidates for leadership positions at the NIH in accordance with the provisions set forth in sections 552b(c)(9)(B) and 552b(c)(6), Title 5 U.S.C., as amended. Premature disclosure of potential candidates and their qualifications, as well as the discussions by the committee, could significantly frustrate NIH's ability to recruit these individuals and the consideration of personnel qualifications, performance, and the competence of individuals as candidates would constitute a clearly unwarranted invasion of personal privacy.

There are no changes for the open portion of the meeting scheduled for December 15, 2017.

Dated: December 5, 2017.
Anna Snouffer,
Deputy Director, Office of Federal Advisory Committee Policy.

[FR Doc. 2017-26548 Filed 12-8-17; 8:45 am]

BILLING CODE 4140-01-P